ENVIRONMENTAL PROTECTION AGENCY

40 CFR Part 81

[EPA-HQ-OAR-2012-0233; FRL-9915-73-OAR]

Air Quality Designations for the 2010 Sulfur Dioxide (SO2) Primary National Ambient Air Quality Standard: Notice of Action Denying Petitions for Reconsideration and Stay Request

AGENCY: Environmental Protection Agency.

ACTION: Action denying petitions for reconsideration and stay request.

SUMMARY: The Environmental Protection Agency (EPA) is providing notice that it has responded to two petitions for reconsideration of a rule published in the Federal Register on August 5, 2013, that promulgated the initial air quality designations for the 2010 Primary SO2 National Ambient Air Quality Standard (NAAQS) for certain areas in the United States. The rule is titled “Air Quality Designations for the 2010 Sulfur Dioxide (SO2) Primary National Ambient Air Quality Standard.” One petition was submitted by the Treasure State Resource Industry Association and Yellowstone County, and the other petition was submitted by the Montana Sulphur and Chemical Company (the Petitioners). The EPA carefully considered these petitions and supporting information, along with information contained in the rulemaking docket, in reaching decisions on these petitions. The EPA denied the petitions for reconsideration in separate letters to the Petitioners dated August 14, 2014. The letters explain the EPA's reasons for the denials. One of the Petitioners also requested that the EPA stay the effectiveness of the designations rule, pending reconsideration. Because the EPA denied the reconsideration requests, the EPA also denied the stay request.

DATES: The petitions for reconsideration and stay request were denied August 14, 2014.

FOR FURTHER INFORMATION CONTACT: Rhonda Wright, Air Quality Policy Division, Office of Air Quality Planning and Standards, U.S. Environmental Protection Agency, Mail code C539-04, Research Triangle Park, NC 27711; telephone: (919) 541-1087; email: wright.rhonda@epa.gov.

SUPPLEMENTARY INFORMATION:

I. Where can I get copies of this document and other related information?

This Federal Register notice, the petitions for reconsideration and the response letters to the Petitioners are available in the EPA's docket established for the rulemaking to promulgate the air quality designations for the 2010 SO2 NAAQS, under Docket ID No. EPA-HQ-OAR-2012-0233. The table below identifies the Petitioners, the date the EPA received the petitions, the document identification number of the petitions, the date of the EPA's responses and the document identification numbers for the EPA's responses.

Petitioner | Dates of petitions to the EPA | Petition: document No. in docket | Date of the EPA response | The EPA response: document No. in docket
Billings, MO Nonattainment Area
Montana Sulphur & Chemical Company | October 4, 2013 | -0356 | August 14, 2014 | [INSERT No.]
Treasure State Resource Industry Association and Yellowstone County | November 26, 2013 | -0360 | August 14, 2014 | [INSERT No.]

All documents in the docket are listed in the index at http://www.regulations.gov. Although listed in the index, some information is not publicly available, e.g., confidential business information or other information where disclosure is restricted by statute. Certain other material, such as copyrighted material, is not placed on the Internet and will be publicly available only in hard copy form. Publicly available docket materials are available either electronically through http://www.regulations.gov or in hard copy at EPA's Docket Center, Public Reading Room, U.S. Environmental Protection Agency, William Jefferson Clinton West Building, 1301 Constitution Avenue, Northwest, Room 3334, Washington, DC 20004. This Docket Center is open from 8:30 a.m. to 4:30 p.m., Monday through Friday, excluding legal holidays. The telephone number for the Public Reading Room is (202) 566-1744, and the telephone number for the Air Docket is (202) 566-1742.

In addition, the EPA has established a Web site for the SO2 designations rulemaking at http://www.epa.gov/so2designations. This Federal Register notice, the petitions for reconsideration and the response letters to the Petitioners are also available on this Web site along with other information relevant to the designations process.

II. Judicial Review

Section 307(b)(1) of the Clean Air Act indicates which Federal Courts of Appeal have venue for petitions for review of final actions by the EPA. This section provides, in part, that petitions for review must be filed in the Court of Appeals for the District of Columbia Circuit (i) when the agency action consists of “nationally applicable regulations promulgated, or final actions taken, by the Administrator,” or (ii) when such action is locally or regionally applicable, if “such action is based on a determination of nationwide scope or effect and if in taking such action the Administrator finds and publishes that such action is based on such a determination.” In the rule establishing air quality designations for the 2010 SO2 NAAQS, the EPA determined that the actions are of nationwide scope and effect for the purposes of section 307(b)(1). [See 78 FR 47191, 47197 (August 5, 2013)].

The EPA has determined that its actions denying these petitions for reconsideration also are of nationwide scope and effect because they directly relate to the SO2 designations rulemaking that the EPA previously determined is of nationwide scope and effect. Thus, any petition for review of the final letters denying the petitions for reconsideration must be filed in the Court of Appeals for the District of Columbia Circuit on or before October 24, 2014.

Dated: August 15, 2014.
Janet McCabe,
Acting Assistant Administrator, Office of Air Radiation.

[FR Doc. 2014-20216 Filed 8-22-14; 8:45 am]

BILLING CODE 6560-50-P